DEPARTMENT OF LABOR

Employment and Training Administration

Information Collection Extension Request for the Impact Evaluation of the Trade Adjustment Act Program

AGENCY: Employment and Training Administration, Labor.

ACTION: Notice.

SUMMARY: The Department of Labor, as part of its continuing effort to reduce paperwork and respondent burden conducts a preclearance consultation program to provide the general public and Federal agencies with an opportunity to comment on proposed and/or continuing collections of information in accordance with the Paperwork Reduction Act of 1995 [44 U.S.C. 3506(c)(2)(A)]. This program helps to ensure that requested data can be provided in the desired format, reporting burden (time and financial resources) is minimized, collection instruments are clearly understood, and the impact of collection requirements on respondents can be properly assessed. Currently, the Employment and Training Administration is soliciting comments concerning the collection of data for the Impact Evaluation of the Trade Adjustment Assistance Program.

A copy of the proposed Information Collection Request can be obtained by contacting the office listed below in the addressee section of this notice or by accessing: http://www.doleta.gov/OMBCN/OMBControlNumber.cfm.

DATES: Written comments must be submitted to the office listed in the addressee section below on or before May 29, 2009.

ADDRESSES: Submit written comments to Charlotte Schifferes, Room N-5641, Employment and Training Administration, 200 Constitution Avenue, NW., Washington, DC 20210. Telephone number: 202-693-3655 (this is not a toll-free number). Fax: 202-693-2766. E-mail: schifferes.charlotte@dol.gov.

SUPPLEMENTARY INFORMATION:

I. Background

The Employment and Training Administration is soliciting comments regarding an extension of an approved Information Collection Request (ICR) for the Impact Evaluation of the Trade Adjustment Assistance (TAA) Program. The ICR was approved by the Office of Management and Budget (OMB) in a Notice of Action (NOA) (ICR Reference Number 200606-1205-009) on November 15, 2006. The NOA identified November 30, 2009 as the expiration date for the ICR. An extension of the ICR is now needed in order to complete data collection activities for the impact analysis and process study of the TAA evaluation.

The TAA program provides training, income support, and other reemployment and supportive services to workers who lose their jobs or have their work hours or salary reduced because of increased imports or shifts in production to foreign countries. The evaluation is intended to generate information that will be useful in developing administrative guidance, technical assistance, and legislative or budgetary proposals.

The evaluation will estimate impacts of the TAA program on the employment and earnings of participants by comparing the outcomes of TAA participants to statistically matched comparison groups of Unemployment Insurance (UI) recipients. This quasi-experimental approach requires extensive information on demographic and personal characteristics as well as on programmatic experiences of both TAA participants and comparison group members. Such information will be gleaned from state TAA and UI administrative records and from baseline and follow-up surveys of individuals in the treatment and comparison groups.

The process study undertaken as part of the evaluation is designed to understand how various program and administrative practices affect TAA performance, including the types of collaboration and administrative arrangements through which TAA operates in the One-Stop Career Center system under the Workforce Investment Act (WIA).

An extension of the ICR is needed in order to obtain follow-up data on employment and earnings outcomes. In order to complete the study prior to the expiration date of funds for the evaluation, only a single follow-up survey will be conducted in 2010, as approved by OMB (in an NOA, ICR Reference Number 2008-12-1205-001, dated December 17, 2008) in lieu of the two follow-up surveys as originally planned. The burden for this data collection will therefore be lower than proposed under the first ICR, even though the sample has been slightly expanded in order to assure a sufficient number of responses, due to lower-than-anticipated response rates for different subgroups.

Below is table which shows the burden for different respondents.

Respondent Hours Burden for the TAA Evaluation
Activity | Total respondents | Frequency | Average minutes per response | Burden hours
Burden Under the Proposed Extension (November 2009 to Project Completion)
Impact Analysis:
State Administrative Data | 26 | Once | 480 | 208
25-Month Follow-up Survey | 3,540 | One time | 30 | 1,770
Process Analysis:
Administration of Site Visit Protocols
1. TAA Reauthorization | 180 | One time | 100 | 300
2. Promising Practices | 325 | One time | 100 | 542
Total Estimated Burden |  |  |  | 9,236

II. Review Focus

The Department of Labor is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submissions of responses.

III. Current Actions

Type of Review: Extension with revisions.

Title: Impact Evaluation of the Trade Adjustment Assistance Program.

OMB Number: 1205-0460.

Affected Public: Individuals in the TAA program or who applied for UI benefits, and State and local administrators in the UI and WIA programs.

Form: Questionnaire and site visit protocols.

Total Respondents: See table above.

Frequency: Once.

Total Responses: See table above.

Average Time per Response: See table above.

Estimated Total Burden Hours: See table above.

Total Burden Cost: $0.

Comments submitted in response to this comment request will be summarized and/or included in the request for OMB approval of the information collection request; they will also become a matter of public record.

Dated: March 23, 2009.
Thomas M. Dowd,
Administrator, Office of Policy Development and Research, Employment and Training Administration.

[FR Doc. E9-6970 Filed 3-27-09; 8:45 am]

BILLING CODE 4510-FN-P